DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: February 20, 2008, 9 a.m.-3 p.m.; February 21, 2008, 8:30 a.m.-2 p.m.

Place: Hilton Garden Inn Hotel, 815 14th Street, NW., Washington, DC 20005, Tel: 202-783-7800.

Status: Open.

Purpose: At this meeting the Committee will hear presentations and hold discussions on several health data policy topics. On the morning of the first day the Committee will hear updates from the Department by the Data Council and the Centers for Medicare and Medicaid Services (CMS). They will also work on letters to the HHS Secretary on sensitive information in the electronic health record and surge capacity of hospitals. There will also be an update from the HHS Office of the National Coordinator for Health Information in Technology.

On the morning of the second day the Committee will continue the discussions on the letters on sensitive information in the electronic health record and surge capacity, and hear an update on the International Classification of Diseases (ICD-10.) There will also be a briefing from the American Health Information Management Associations (AHIMA) and the American Medical Informatics Association (AMIA). In the afternoon updates from the subcommittees on current and planned activities are scheduled. The remainder of the time will be spent discussing future agenda items and Committee administrative operations.

The times shown above are for the full Committee meeting. Subcommittee breakout sessions can be schedules for late in the afternoon of the first day and in the morning prior to the full Committee meeting on the second day. Agendas for these breakout sessions will be posted on the NCVHS Web site (URL below) when available.

Contact Person For More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 28, 2008.
James Scanlon,
Deputy Assistant Secretary for Planning and Evaluation (SDP), Office of the Assistant Secretary for Planning and Evaluation.

[FR Doc. 08-479 Filed 2-4-08; 8:45 am]

BILLING CODE 4151-05-M